DEPARTMENT OF COMMERCE

International Trade Administration

[A-427-801]

Ball Bearings and Parts Thereof from France: Final Results of Changed-Circumstances Review

AGENCY: Import Administration, International Trade Administration, Department of Commerce.

SUMMARY: The Department of Commerce (the Department) has determined, pursuant to section 751(b) of the Tariff Act of 1930, as amended (the Act), that, after acquisition of SNR Roulements S.A. by NTN Corporation, post-acquisition SNR Roulements S.A. is the successor-in-interest to pre-acquisition SNR Roulements S.A.

EFFECTIVE DATE: June 18, 2010.

FOR FURTHER INFORMATION CONTACT: Thomas Schauer or Richard Rimlinger, AD/CVD Operations, Office 5, Import Administration, International Trade Administration, U.S. Department of Commerce, 14th Street and Constitution Avenue, NW, Washington, DC 20230; (202) 482-0410 or (202) 482-4477, respectively.

SUPPLEMENTARY INFORMATION:

Background

On September 18, 2009, pursuant to a request from SNR Roulements S.A. (SNR), we initiated a changed-circumstances review of the antidumping duty order on ball bearings and parts thereof from France to determine whether post-acquisition SNR was a successor-in-interest to SNR following SNR's acquisition by NTN Corporation (NTN). See Ball Bearings and Parts Thereof From France: Initiation of Antidumping Duty Changed-Circumstances Review, 74 FR 47920 (September 18, 2009).

On November 20, 2009, we preliminarily found that post-acquisition SNR is the successor in interest to pre-acquisition SNR. See Ball Bearings and Parts Thereof From France: Preliminary Results of Changed-Circumstances Review, 74 FR 60242 (November 20, 2009). We received case briefs and rebuttal briefs from The Timken Company and NTN/SNR. We did not hold a hearing as none was requested.

Scope of the Order

The products covered by the order are ball bearings and parts thereof. These products include all antifriction bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, 8803.90.90, 8708.30.50.90, 8708.40.75.70, 8708.40.75.80, 8708.50.79.00, 8708.50.89.00, 8708.50.91.50, 8708.50.99.00, 8708.70.60.60, 8708.80.65.90, 8708.93.75.00, 8708.94.75, 8708.95.20.00, 8708.99.55.00, 8708.99.68, and 8708.99.81.80.

Although the HTSUS item numbers above are provided for convenience and customs purposes, the written description of the scope of the order remains dispositive.

The size or precision grade of a bearing does not influence whether the bearing is covered by the order. The order covers all the subject bearings and parts thereof (inner race, outer race, cage, rollers, balls, seals, shields, etc.) outlined above with certain limitations. With regard to finished parts, all such parts are included in the scope of the order. For unfinished parts, such parts are included if they have been heat-treated or if heat treatment is not required to be performed on the part. Thus, the only unfinished parts that are not covered by the order are those that will be subject to heat treatment after importation. The ultimate application of a bearing also does not influence whether the bearing is covered by the order. Bearings designed for highly specialized applications are not excluded. Any of the subject bearings, regardless of whether they may ultimately be utilized in aircraft, automobiles, or other equipment, are within the scope of the order.

Analysis of Comments Received

The issues raised in the case briefs by parties in this review are addressed in the Issues and Decision Memorandum from John M. Andersen, Acting Deputy Assistant Secretary for Antidumping and Countervailing Duty Operations, to Ronald K. Lorentzen, Deputy Assistant Secretary for Import Administration, dated concurrently with this notice (Decision Memorandum), which is hereby adopted by this notice. A list of the issues which parties have raised and to which we have responded, all of which are in the Decision Memorandum, is attached to this notice as an Appendix. The Decision Memorandum, which is a public document, is on file in the Central Records Unit, main Department of Commerce building, Room 1117, and is accessible on the Web at http://ia.ita.doc.gov/frn. The paper copy and electronic version of the Decision Memorandum are identical in content.

Final Results of Changed-Circumstances Review

For the reasons stated in the preliminary results and in the Decision Memorandum, we continue to find that post-acquisition SNR is the successor-in-interest to pre-acquisition SNR and, as a result, should be accorded the same treatment as pre-acquisition SNR. We will instruct U.S. Customs and Border Protection to collect cash deposits at 13.32 percent, the weighted-average percentage dumping margin we found for pre-acquisition SNR in the most recently completed review. See Ball Bearings and Parts Thereof from France, Germany, Italy, Japan, Singapore, and the United Kingdom: Final Results of Antidumping Duty Administrative Reviews and Rescission of Review in Part, 72 FR 58053, 58054 (October 12, 2007).

Notification

This notice serves as a reminder to parties subject to administrative protective order (APO) of their responsibility concerning the disposition of proprietary information disclosed under APO in accordance with 19 CFR 351.306. Timely written notification of the destruction of APO materials or conversion to judicial protective order is hereby requested. Failure to comply with the regulations and terms of an APO is a sanctionable violation.

This notice is published in accordance with sections 751(b)(1) and 777(i) of the Act and 19 CFR 351.216 and 351.221.

Dated: June 10, 2010.
Ronald K. Lorentzen,
Deputy Assistant Secretary for Import Administration.

Appendix

1. Successorship

2. Briefing Schedule

3. Filing of Factual Submissions

[FR Doc. 2010-14795 Filed 6-17-10; 8:45 am]

BILLING CODE 3510-DS-S